OFFICE OF MANAGEMENT AND BUDGET

2 CFR Part 176

Requirements for Implementing Sections 1512, 1605, and 1606 of the American Recovery and Reinvestment Act of 2009 for Financial Assistance Awards

AGENCY: Office of Federal Financial Management, Office of Management and Budget (OMB).

ACTION: Amendments of interim final guidance.

SUMMARY: The Office of Federal Financial Management (OFFM) is amending certain sections of the interim final guidance at 2 CFR part 176 that pertain to international agreements. These amendments reflect changes with respect to U.S. international obligations since the publication of the interim final guidance. Public comments received in response to the initial publication of the interim final guidance will be addressed when the guidance is finalized.

DATES: The effective date of the amendments to 2 CFR part 176 (the interim final guidance) is March 25, 2010.

FOR FURTHER INFORMATION CONTACT: Marguerite Pridgen, Office of Federal Financial Management, Office of Management and Budget, e-mail: Marguerite_E._Pridgen@omb.eop.gov.

SUPPLEMENTARY INFORMATION: The Office of Federal Financial Management (OFFM) is amending four areas of the interim final guidance at 2 CFR part 176 that deal with international agreements. First, it makes a technical correction to section 176.90(a). Second, it changes the threshold that applies to international agreements from $7,430,000 to 7,804,000, based on a determination made by the United States Trade Representative (74 FR 68907, Dec. 29, 2009). Third, it adds Chinese Taipei (Taiwan) as a Party to the WTO Government Procurement Agreement. Fourth, it adds the Agreement between Canada and the United States of America on Government Procurement, which was signed on February 12, 2010 and enters into force on February 16, 2010, to the list of international agreements in section 176.90(b). Consequential amendments are also made to the Appendix to Subpart B of Part 176—U.S. States, Other Sub-Federal Entities, and Other Entities Subject to U.S. Obligations under International Agreements. The amended Appendix will be posted on the Web site of the Office of the United States Trade Representative at: http://www.ustr.gov/trade-topics/government-procurement. Any subsequent revisions of the Appendix will be made by the Office of the United States Trade Representative and posted on its Web site.

Debra Bond,
Deputy Controller.

For the reasons set forth above, the Office of Management and Budget amends 2 CFR part 176 in Subtitle A, Chapter I, as set forth below:

PART 176—AWARD TERMS FOR ASSISTANCE AGREEMENTS THAT INCLUDE FUNDS UNDER THE AMERICAN RECOVERY AND REINVESTMENT ACT OF 2009, PUBLIC LAW 111-5

1. The authority citation for part 176 continues to read as follows:

Authority: American Recovery and Reinvestment Act of 2009, Public Law 111-5; Federal Funding Accountability and Transparency Act of 2006, (Pub. L. 109-282), as amended.

Subpart B—Buy American Requirement Under Section 1605 of the American Recovery and Reinvestment Act of 2009

2. In § 176.90, revise the section heading, the introductory text, paragraphs (a), (b) introductory text, (b)(1), and (b)(3), and add paragraph (b)(4), to read as follows:

§ 176.90 Acquisitions covered under international agreements.

Section 1605(d) of the Recovery Act provides that the Buy American requirement in section 1605 shall be applied in a manner consistent with U.S. obligations under international agreements.

(a) The Buy American requirement set out in § 176.70 shall not be applied where the iron, steel, or manufactured goods used in the project are from a Party to an international agreement, listed in paragraph (b) of this section, and the recipient is required under an international agreement, described in the appendix to this subpart, to treat the goods and services of that Party the same as domestic goods and services. As of January 1, 2010, this obligation shall only apply to projects with an estimated value of $7,804,000 or more and projects that are not specifically excluded from the application of those agreements.

(b) The international agreements that obligate recipients that are covered under an international agreement to treat the goods and services of a Party the same as domestic goods and services and the respective Parties to the agreements are:

(1) The World Trade Organization Government Procurement Agreement (Aruba, Austria, Belgium, Bulgaria, Canada, Chinese Taipei (Taiwan), Cyprus, Czech Republic, Denmark, Estonia, Finland, France, Germany, Greece, Hong Kong, Hungary, Iceland, Ireland, Israel, Italy, Japan, Korea (Republic of), Latvia, Liechtenstein, Lithuania, Luxembourg, Malta, Netherlands, Norway, Poland, Portugal, Romania, Singapore, Slovak Republic, Slovenia, Spain, Sweden, Switzerland, and United Kingdom);

* * * * *

(3) United States-European Communities Exchange of Letters (May 15, 1995): Austria, Belgium, Bulgaria, Cyprus, Czech Republic, Denmark, Estonia, Finland, France, Germany, Greece, Hungary, Ireland, Italy, Latvia, Lithuania, Luxembourg, Malta, Netherlands, Poland, Portugal, Romania, Slovak Republic, Slovenia, Spain, Sweden, and United Kingdom; and

(4) Agreement between the Government of Canada and the Government of the United States of America on Government Procurement.

3. In § 176.160, revise the definition of “Designated country” in paragraph (a), and paragraph (b)(1)(ii), to read as follows:

§ 176.160 Award term—Required Use of American Iron, Steel, and Manufactured Goods (covered under International Agreements)—Section 1605 of the American Recovery and Reinvestment Act of 2009.

* * * * *

(a) * * *

Designated country—

(1) A World Trade Organization Government Procurement Agreement country (Aruba, Austria, Belgium, Bulgaria, Canada, Chinese Taipei (Taiwan), Cyprus, Czech Republic, Denmark, Estonia, Finland, France, Germany, Greece, Hong Kong, Hungary, Iceland, Ireland, Israel, Italy, Japan, Korea (Republic of), Latvia, Liechtenstein, Lithuania, Luxembourg, Malta, Netherlands, Norway, Poland, Portugal, Romania, Singapore, Slovak Republic, Slovenia, Spain, Sweden, Switzerland, and United Kingdom;

(2) A Free Trade Agreement (FTA) country (Australia, Bahrain, Canada, Chile, Costa Rica, Dominican Republic, El Salvador, Guatemala, Honduras, Israel, Mexico, Morocco, Nicaragua, Oman, Peru, or Singapore);

(3) A United States-European Communities Exchange of Letters (May 15, 1995) country: Austria, Belgium, Bulgaria, Cyprus, Czech Republic, Denmark, Estonia, Finland, France, Germany, Greece, Hungary, Ireland, Italy, Latvia, Lithuania, Luxembourg, Malta, Netherlands, Poland, Portugal, Romania, Slovak Republic, Slovenia, Spain, Sweden, and United Kingdom; or

(4) An Agreement between Canada and the United States of America on Government Procurement country (Canada).

* * * * *

(b) * * *

(1) * * *

(ii) Section 1605(d), which requires application of the Buy American requirement in a manner consistent with U.S. obligations under international agreements. The restrictions of section 1605 of the Recovery Act do not apply to designated country iron, steel, and/or manufactured goods. The Buy American requirement in section 1605 shall not be applied where the iron, steel or manufactured goods used in the project are from a Party to an international agreement that obligates the recipient to treat the goods and services of that Party the same as domestic goods and services. As of January 1, 2010, this obligation shall only apply to projects with an estimated value of $7,804,000 or more.

* * * * *

4. Revise Appendix to Subpart B to read as follows:

Appendix to Subpart B of 2 CFR part 176—U.S. States, Other Sub-Federal Entities, and Other Entities Subject to U.S. Obligations Under International Agreements (as of February 16, 2010)

States | Entities covered | Exclusions | Relevant international agreements
Arizona | Executive branch agencies |  | —WTO GPA.
|  |  | —U.S.-Chile FTA.
|  |  | —U.S.-Singapore FTA.
Arkansas | Executive branch agencies, including universities but excluding the Office of Fish and Game | Construction services | —WTO GPA. —DR-CAFTA. —U.S.-Australia FTA. —U.S.-Chile FTA.
|  |  | —U.S.-Morocco FTA.
|  |  | —U.S.-Peru TPA.
|  |  | —U.S.-Singapore FTA.
California | Executive branch agencies |  | —WTO GPA.
|  |  | —U.S.-Australia FTA.
|  |  | —U.S.-Chile FTA. —U.S.-Singapore FTA.
Colorado | Executive branch agencies |  | —WTO GPA.
|  |  | —DR-CAFTA.
|  |  | —U.S.-Australia FTA.
|  |  | —U.S.-Chile FTA.
|  |  | —U.S.-Morocco FTA.
|  |  | —U.S.-Peru TPA.
|  |  | —U.S.-Singapore FTA.
Connecticut | —Department of Administrative Services —Department of Transportation. —Department of Public Works. —Constituent Units of Higher Education |  | —WTO GPA. —DR-CAFTA. —U.S.-Australia FTA. —U.S.-Chile FTA. —U.S.-Morocco FTA. —U.S.-Singapore FTA.
Delaware | —Administrative Services (Central Procurement Agency). —State Universities. —State Colleges. | Construction-grade steel (including requirements on subcontracts); motor vehicles; coal | —WTO GPA. —DR-CAFTA (except Honduras). —U.S.-Australia FTA. —U.S.-Chile FTA. —U.S.-Morocco FTA. —U.S.-Singapore FTA.
Florida | Executive branch agencies | Construction-grade steel (including requirements on subcontracts); motor vehicles; coal | —WTO GPA. —DR-CAFTA. —U.S.-Australia FTA. —U.S.-Chile FTA.
|  |  | —U.S.-Morocco FTA.
|  |  | —U.S.-Peru TPA.
|  |  | —U.S.-Singapore FTA.
Georgia | —Department of Administrative Services | Beef; compost; mulch | —U.S.-Australia FTA.
| —Georgia Technology Authority
Hawaii | Department of Accounting and General Services | Software developed in the State; construction | —WTO GPA. —DR-CAFTA (except Honduras).
|  |  | —U.S.-Australia FTA. —U.S.-Chile FTA. —U.S.-Morocco FTA. —U.S.-Singapore FTA.
Idaho | Central Procurement Agency (including all colleges and universities subject to central purchasing oversight) |  | —WTO GPA. —DR-CAFTA (except Honduras). —U.S.-Australia FTA. —U.S.-Chile FTA.
|  |  | —U.S.-Morocco FTA. —U.S.-Singapore FTA.
Illinois | —Department of Central Management Services | Construction-grade steel (including requirements on subcontracts); motor vehicles; coal | —WTO GPA. —U.S.-Australia FTA. —U.S.-Chile FTA.
|  |  | —U.S.-Peru TPA. —U.S.-Singapore FTA. —U.S.-EC.
|  |  | Exchange of Letters (applies to EC Member States for procurement not covered by WTO GPA and only where the State considers out-of-State suppliers).
Iowa | —Department of General Services —Department of Transportation. —Board of Regents' Institutions (universities) | Construction-grade steel (including requirements on subcontracts); motor vehicles; coal | —WTO GPA. —U.S.-Chile FTA. —U.S.-Singapore FTA.
Kansas | Executive branch agencies | Construction services; automobiles; aircraft | —WTO GPA. —U.S.-Australia FTA.
|  |  | —U.S.-Chile FTA. —U.S.-Morocco FTA. —U.S.-Singapore FTA.
Kentucky | Division of Purchases, Finance and Administration Cabinet | Construction projects | —WTO GPA. —DR-CAFTA. —U.S.-Australia FTA. —U.S.-Chile FTA.
|  |  | —U.S.-Morocco FTA. —U.S.-Singapore FTA.
Louisiana | Executive branch agencies |  | —WTO GPA.
|  |  | —DR-CAFTA. —U.S.-Australia FTA. —U.S.-Chile FTA. —U.S.-Morocco FTA. —U.S.-Singapore FTA.
Maine | —Department of Administrative and Financial Services —Bureau of General Services (covering State government agencies and school construction) — Department of Transportation. | Construction-grade steel (including requirements on subcontracts); motor vehicles; coal | —WTO GPA. —U.S.-Australia FTA. —U.S.-Chile FTA. —U.S.-Singapore FTA.
Maryland | —Office of the Treasury —Department of the Environment. —Department of General Services. —Department of Housing and Community Development. —Department of Human Resources. —Department of Licensing and Regulation. —Department of Natural Resources. —Department of Public Safety and Correctional Services. —Department of Personnel. —Department of Transportation. | Construction-grade steel (including requirements on subcontracts); motor vehicles; coal | —WTO GPA. —DR-CAFTA. —U.S.-Australia FTA. —U.S.-Chile FTA. —U.S.-Morocco FTA. —U.S.-Singapore FTA.
Massachusetts | —Executive Office for Administration and Finance |  | —WTO GPA. —U.S.-Chile FTA.
| —Executive Office of Communities and Development |  | —U.S.-Singapore FTA.
| —Executive Office of Consumer Affairs
| —Executive Office of Economic Affairs
| —Executive Office of Education
| —Executive Office of Elder Affairs
| —Executive Office of Environmental Affairs
| —Executive Office of Health and Human Service
| —Executive Office of Labor
| —Executive Office of Public Safety
| —Executive Office of Transportation and Construction
Michigan | Department of Management and Budget | Construction-grade steel (including requirements on subcontracts); motor vehicles; coal | —WTO GPA. —U.S.-Australia FTA. —U.S.-Chile FTA. —U.S.-Singapore FTA.
Minnesota | Executive branch agencies |  | —WTO GPA.
|  |  | —U.S.-Chile FTA.
|  |  | —U.S.-Singapore FTA.
Mississippi | Department of Finance and Administration | Services | —WTO GPA. —DR-CAFTA.
|  |  | —U.S.-Australia FTA.
|  |  | —U.S.-Chile FTA.
|  |  | —U.S.-Morocco FTA.
|  |  | —U.S.-Peru TPA.
|  |  | —U.S.-Singapore FTA.
Missouri | —Office of Administration |  | —WTO GPA.
| —Division of Purchasing and Materials Management |  | —U.S.-Chile FTA. —U.S.-Singapore FTA.
Montana | Executive branch agencies | Goods | —WTO GPA.
|  |  | —U.S.-Chile FTA.
|  |  | —U.S.-Singapore FTA.
Nebraska | Central Procurement Agency |  | —WTO GPA.
|  |  | —DR-CAFTA.
|  |  | —U.S.-Australia FTA.
|  |  | —U.S.-Chile FTA.
|  |  | —U.S.-Morocco FTA.
|  |  | —U.S.-Singapore FTA.
New Hampshire | Central Procurement Agency | Construction-grade steel (including requirements on subcontracts), motor vehicles; coal | —WTO GPA. —DR-CAFTA. —U.S.-Australia FTA. —U.S.-Chile FTA. —U.S.-Morocco FTA. —U.S.-Singapore FTA.
New York | —State agencies —State university system. —Public authorities and public benefit corporations, with the exception of those entities with multi-State mandates. | Construction-grade steel (including requirements on subcontracts); motor vehicles; coal; transit cars, buses and related equipment | —WTO GPA. —DR-CAFTA. —U.S.-Australia FTA. —U.S.-Chile FTA. —U.S.-Morocco FTA. —U.S.-Peru TPA. —U.S.-Singapore FTA.
North Dakota |  |  | —U.S.-EC Exchange of Letters (applies to EC Member States and only where the State considers out-of-State suppliers).
Oklahoma | Department of Central Services and all State agencies and departments subject to the Oklahoma Central Purchasing Act | Construction services; construction-grade steel (including requirements on subcontracts); motor vehicles; coal | —WTO GPA. —U.S.-Australia FTA. —U.S.-Chile FTA. —U.S.-Peru TPA. —U.S.-Singapore FTA.
Oregon | Department of Administrative Services |  | —WTO GPA. —DR-CAFTA (except Honduras).
|  |  | —U.S.-Australia FTA.
|  |  | —U.S.-Chile FTA.
|  |  | —U.S.-Morocco FTA.
|  |  | —U.S.-Singapore FTA.
Pennsylvania | Executive branch agencies, including: —Governor's Office. —Department of the Auditor General. —Treasury Department. —Department of Agriculture. | Construction-grade steel (including requirements on subcontracts); motor vehicles; coal | —WTO GPA. —U.S.-Australia FTA. —U.S.-Chile FTA. —U.S.-Singapore FTA.
| —Department of Banking
| —Pennsylvania Securities Commission
| —Department of Health
| —Department of Transportation
| —Insurance Department
| —Department of Aging
| —Department of Correction
| —Department of Labor and Industry
| —Department of Military Affairs
| —Office of Attorney General
| —Department of General Services
| —Department of Education
| —Public Utility Commission
| —Department of Revenue
| —Department of State
| —Pennsylvania State Police
| —Department of Public Welfare
| —Fish Commission
| —Game Commission
| —Department of Commerce
| —Board of Probation and Parole
| —Liquor Control Board
| —Milk Marketing Board
| —Lieutenant Governor's Office
| —Department of Community Affairs
| —Pennsylvania Historical and Museum Commission
| —Pennsylvania Emergency Management Agency
| —State Civil Service Commission
| —Pennsylvania Public Television Network
| —Department of Environmental Resources
| —State Tax Equalization Board
| —Department of Public Welfare
| —State Employees' Retirement System
| —Pennsylvania Municipal Retirement Board
| —Public School Employees' Retirement System
| —Pennsylvania Crime Commission
| —Executive Offices
Rhode Island | Executive branch agencies | Boats, automobiles, buses and related equipment | —WTO GPA. —DR-CAFTA (except Honduras). —U.S.-Australia FTA.
|  |  | —U.S.-Chile FTA.
|  |  | —U.S.-Morocco FTA.
|  |  | —U.S.-Singapore FTA.
South Dakota | Central Procuring Agency (including universities and penal institutions) | Beef | —WTO GPA. —DR-CAFTA. —U.S.-Australia FTA.
|  |  | —U.S.-Chile FTA.
|  |  | —U.S.-Morocco FTA.
|  |  | —U.S.-Singapore FTA.
Tennessee | Executive branch agencies | Services; construction | —WTO GPA-U.S.-Australia FTA. —U.S.-Chile FTA. —U.S.-Singapore FTA.
Texas | Texas Building and Procurement Commission |  | —WTO GPA. —DR-CAFTA. —U.S.-Australia FTA.
|  |  | —U.S.-Chile FTA.
|  |  | —U.S.-Morocco FTA.
|  |  | —U.S.-Peru TPA.
|  |  | —U.S.-Singapore FTA.
Utah | Executive branch agencies |  | —WTO GPA. —DR-CAFTA (except Honduras).
|  |  | —U.S.-Australia FTA.
|  |  | —U.S.-Chile FTA.
|  |  | —U.S.-Morocco FTA.
|  |  | —U.S.-Peru TPA.
|  |  | —U.S.-Singapore FTA.
Vermont | Executive branch agencies |  | —WTO GPA. —DR-CAFTA.
|  |  | —U.S.-Australia FTA.
|  |  | —U.S.-Chile FTA.
|  |  | —U.S.-Morocco FTA.
|  |  | —U.S.-Singapore FTA.
Washington | Executive branch agencies, including: —General Administration. —Department of Transportation. —State Universities. | Fuel; paper products; boats; ships; and vessels | —WTO GPA. —DR-CAFTA. —U.S.-Australia FTA. —U.S.-Chile FTA. —U.S.-Morocco FTA. —U.S.-Singapore FTA.
West Virginia |  |  | —U.S.-EC Exchange of Letters (applies to EC Member States and only where the State considers out-of-State suppliers).
Wisconsin | Executive branch agencies, including: —Department of Administration. —State Correctional Institutions. —Department of Development. —Educational Communications Board. —Department of Employment Relations. —State Historical Society. —Department of Health and Social Services. —Insurance Commissioner. —Department of Justice. —Lottery Board. —Department of Natural Resources. —Administration for Public Instruction. —Racing Board. —Department of Revenue. —State Fair Park Board. —Department of Transportation. —State University System. |  | —WTO GPA. —U.S.-Chile FTA. —U.S.-Singapore FTA.
Wyoming | —Procurement Services Division —Wyoming Department of Transportation. —University of Wyoming. | Construction-grade steel (including requirements on subcontracts); motor vehicles; coal | —WTO GPA. —DR-CAFTA. —U.S.-Australia FTA. —U.S.-Chile FTA. —U.S.-Morocco FTA. —U.S.-Singapore FTA.
Other sub-federal entities | Entities covered | Exclusions | Relevant international agreements
Puerto Rico | —Department of State —Department of Justice. | Construction services | —DR-CAFTA. —U.S.-Peru TPA.
| —Department of the Treasury. | —Department of Economic Development and Commerce
| —Department of Labor and Human Resources
| —Department of Natural and Environmental Resources
| —Department of Consumer Affairs
| —Department of Sports and Recreation
Port Authority of New York and New Jersey |  | Restrictions attached to Federal funds for airport projects; maintenance, repair and operating materials and supplies | —WTO GPA (except Canada). —U.S.-Chile FTA. —U.S.-Singapore FTA.
Port of Baltimore |  | Restrictions attached to Federal funds for airport projects | —WTO GPA (except Canada). —U.S.-Chile FTA. —U.S.-Singapore FTA.
New York Power Authority |  | Restrictions attached to Federal funds for airport projects; conditions specified for the State of New York | —WTO GPA (except Canada). —U.S.-Chile FTA. —U.S.-Singapore FTA.
Massachusetts Port Authority |  |  | U.S.-EC Exchange of Letters (applies to EC Member States and only where the Port Authority considers out-of-State suppliers).
Boston, Chicago, Dallas, Detroit, Indianapolis, Nashville, and San Antonio |  |  | U.S.-EC Exchange of Letters (only applies to EC Member States and where the city considers out-of-city suppliers).
Other entities | Entities covered | Exclusions | Relevant international agreements
Rural Utilities Service (waiver of Buy American restriction on financing for all power generation projects) | Any recipient |  | —WTO GPA. —DR-CAFTA. —NAFTA. —U.S.-Australia FTA. —U.S.-Bahrain FTA.
|  |  | —U.S.-Chile FTA.
|  |  | —U.S.-Morocco FTA.
|  |  | —U.S.-Oman FTA.
|  |  | —U.S.-Peru TPA.
|  |  | —U.S.-Singapore FTA.
Rural Utilities Service (waiver of Buy American restriction on financing for telecommunications projects) | Any recipient |  | —NAFTA. —U.S.-Israel FTA.
U.S. Department of Agriculture, Rural Utilities Services, Water and Waste Disposal Programs (exclusion of Canadian iron, steel and manufactured products from domestic purchasing restriction in Section 1605 of American Recovery and Reinvestment Act of 2009) | Any recipient |  | U.S.-Canada Agreement.
U.S. Department of Agriculture, Rural Housing Service, Community Facilities Program (exclusion of Canadian iron, steel and manufactured products from domestic purchasing restriction in Section 1605 of American Recovery and Reinvestment Act of 2009) | Any recipient |  | U.S.-Canada Agreement.
U.S. Department of Energy, Office of Energy Efficiency and Renewable Energy, Energy Efficiency and Conservation Block Grants (exclusion of Canadian iron, steel and manufactured products from domestic purchasing restriction in Section 1605 of American Recovery and Reinvestment Act of 2009) | Any recipient |  | U.S.-Canada Agreement.
U.S. Department of Energy, Office of Energy Efficiency and Renewable Energy, State Energy Program (exclusion of Canadian iron, steel and manufactured products from domestic purchasing restriction in Section 1605 of American Recovery and Reinvestment Act of 2009 (ARRA) | Any recipient |  | U.S.-Canada Agreement.
U.S. Department of Housing and Urban Development, Office of Community Planning and Development, Community Development Block Grants Recovery (CDBG-R) (exclusion of Canadian iron, steel and manufactured products from domestic purchasing restriction in Section 1605 of American Recovery and Reinvestment Act of 2009) | Any recipient |  | U.S.-Canada Agreement.
U.S. Department of Housing and Urban Development, Office of Public and Indian Housing, Public Housing Capital Fund (exclusion of Canadian iron, steel and manufactured products from domestic purchasing restriction in Section 1605 of American Recovery and Reinvestment Act of 2009) | Any recipient |  | U.S.-Canada Agreement.
U.S. Environmental Protection Clean Water and Drinking Water State Revolving Funds Agency for projects funded by reallocated ARRA funds where the contracts are signed after February 17, 2010 (exclusion of Canadian iron, steel and manufactured products from domestic purchasing restriction in Section 1605 of American Recovery and Reinvestment Act of 2009) | Any recipient |  | U.S.-Canada Agreement.

General Exceptions: The following restrictions and exceptions are excluded from U.S. obligations under international agreements:

1. The restrictions attached to Federal funds to States for mass transit and highway projects.

2. Dredging.

The World Trade Organization Government Procurement Agreement (WTO GPA) Parties: Aruba, Austria, Belgium, Bulgaria, Canada, Chinese Taipei (Taiwan), Cyprus, Czech Republic, Denmark, Estonia, Finland, France, Germany, Greece, Hong Kong, Hungary, Iceland, Ireland, Israel, Italy, Japan, Korea (Republic of), Latvia, Liechtenstein, Lithuania, Luxembourg, Malta, Netherlands, Norway, Poland, Portugal, Romania, Singapore, Slovak Republic, Slovenia, Spain, Sweden, Switzerland, and United Kingdom.

The Free Trade Agreements and the respective Parties to the agreements are:

(1) Dominican Republic-Central America-United States Free Trade Agreement (DR-CAFTA): Costa Rica, Dominican Republic, El Salvador, Guatemala, Honduras, and Nicaragua;

(2) North American Free Trade Agreement (NAFTA): Canada and Mexico;

(3) United States-Australia Free Trade Agreement (U.S.-Australia FTA);

(4) United States-Bahrain Free Trade Agreement (U.S.-Bahrain FTA);

(5) United States-Chile Free Trade Agreement (U.S.-Chile FTA);

(6) United States-Israel Free Trade Agreement (U.S.-Israel FTA);

(7) United States-Morocco Free Trade Agreement (U.S.-Morocco FTA);

(8) United States-Oman Free Trade Agreement (U.S.-Oman FTA);

(9) United States-Peru Trade Promotion Agreement (U.S.-Peru TPA); and

(10) United States-Singapore Free Trade Agreement (U.S.-Singapore FTA).

United States-European Communities Exchange of Letters (May 30, 1995) (U.S.-EC Exchange of Letters) applies to EC Member States: Austria, Belgium, Bulgaria, Cyprus, Czech Republic, Denmark, Estonia, Finland, France, Germany, Greece, Hungary, Ireland, Italy, Latvia, Lithuania, Luxembourg, Malta, Netherlands, Poland, Portugal, Romania, Slovak Republic, Slovenia, Spain, Sweden, and United Kingdom.

Agreement between the Government of Canada and the Government of the United States of America on Government Procurement (Feb. 10, 2010) (U.S.-Canada Agreement): Applies only to Canada.

[FR Doc. 2010-6548 Filed 3-24-10; 8:45 am]

BILLING CODE P